CONSUMER PRODUCT SAFETY COMMISSION

[CPSC Docket No. 21.2]

Notice of Prehearing Conference

AGENCY: Consumer Product Safety Commission.

ACTION: Notice.

SUMMARY: Notice of prehearing conference for In the Matter of Amazon.com, Inc.; CPSC Docket No. 21-2.

DATES: Friday, October 15, 2021 at 2:30 p.m. Eastern Time.

ADDRESSES: This event will be held remotely; video teleconference.

FOR FURTHER INFORMATION CONTACT: Benjamin Ristau, Attorney-Adviser, Office of Administrative Law Judges, U.S. Securities and Exchange Commission, 202-551-5201.

SUPPLEMENTARY INFORMATION: The text of the Presiding Officer's September 24, 2021, Order Scheduling Prehearing Conference appears below.

Authority: Consumer Product Safety Act, 15 U.S.C. 2064.

Dated: September 24, 2021.
Alberta E. Mills,
Secretary, Consumer Product Safety Commission.

United States of America

Consumer Product Safety Commission

In the Matter of Amazon.com., Inc.

CPSC Docket No. 21-2

September 24, 2021

Order Scheduling Prehearing Conference

This proceeding commenced with the filing of a complaint on July 14, 2021. The complaint was published in the Federal Register on July 21, 2021. 86 FR 38,450. On August 23, 2021, the Acting Chairman of the Consumer Product Safety Commission appointed me as the presiding officer for this proceeding. An interagency agreement for the loan of my services to the CPSC was finalized on September 22, 2021.

Under 16 CFR 1025.21, an initial prehearing conference shall be held within fifty days of the publication of the complaint in the Federal Register unless “unusual circumstances would render it impractical or valueless” to do so. Due to the timing of my appointment and the interagency agreement, holding a prehearing conference within fifty days of publication is impossible, and therefore impractical. A prehearing conference shall be held as follows:

Date: Friday, October 15, 2021

Time: 2:30 p.m. Eastern Time

Means: Video teleconference

Before the prehearing conference, the parties must confer and discuss the issues listed in 16 CFR 1025.21(a)(1) through (14). The parties should also discuss a plan for discovery and whether there are issues as to preservation, retrieval, review, disclosure, or production of discoverable information, including issues as to the disclosure or discovery of electronically stored information. The parties must submit by October 12, 2021, a joint letter summarizing the result of their discussion and proposing the procedures for resolving this proceeding, including proposed deadlines. If the parties are unable to reach agreement about proposed procedures and deadlines, their letter should describe their disagreements. The parties should also report whether they have discussed settlement and, if so, whether they believe settlement is possible or likely.

The Consumer Products Safety Commission should arrange for a court reporter for the prehearing conference. I direct that notice of this conference be published in the Federal Register. 16 CFR 1025.21(b).

/s/James E. Grimes
Administrative Law Judge

[FR Doc. 2021-21224 Filed 9-29-21; 8:45 am]

BILLING CODE 6355-01-P